DEPARTMENT OF TRANSPORTATION

Federal Aviation Administration

14 CFR Part 71

[Docket No. FAA-2016-9355; Airspace Docket No. 16-ANM-8]

Amendment of Class D and Class E Airspace; Hailey, ID

AGENCY: Federal Aviation Administration (FAA), DOT.

ACTION: Final rule.

SUMMARY: This action modifies Class D airspace, Class E surface area airspace, and Class E airspace extending upward from 700 feet above the surface at Friedman Memorial Airport, Hailey, ID, to support the implementation of new Area Navigation (RNAV) Global Positioning System (GPS) standard instrument approach procedures for Instrument Flight Rules (IFR) at the airport. Additionally, this action updates the airport's geographic coordinates in the Class D description, and amends the legal description of Class E surface area airspace adding the Notice to Airmen (NOTAM) part-time status information.

DATES: Effective 0901 UTC, August 17, 2017. The Director of the Federal Register approves this incorporation by reference action under Title 1, Code of Federal Regulations, part 51, subject to the annual revision of FAA Order 7400.11 and publication of conforming amendments.

ADDRESSES: FAA Order 7400.11A, Airspace Designations and Reporting Points, and subsequent amendments can be viewed on line at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of this material at NARA, call 202-741-6030, or go to http://www.archives.gov/federal_register/code_of_federal-regulations/ibr_locations.html.

FAA Order 7400.11, Airspace Designations and Reporting Points, is published yearly and effective on September 15.

FOR FURTHER INFORMATION CONTACT: Tom Clark, Federal Aviation Administration, Operations Support Group, Western Service Center, 1601 Lind Avenue SW., Renton, WA 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends associated Class D and E airspace to support new RNAV procedures for IFR operations at Friedman Memorial Airport, Hailey, ID.

History

On January 23, 2017, the FAA published in the Federal Register (82 FR 7735) Docket FAA-2016-9355 a notice of proposed rulemaking (NPRM) to modify Class D airspace, Class E surface area airspace, and Class E airspace extending upward from 700 feet above the surface, at Friedman Memorial Airport, Hailey, ID. Interested parties were invited to participate in this rulemaking effort by submitting written comments on the proposal to the FAA. The four comments received supported the proposal.

The Class E surface area is a part-time airspace area, effective when the Class D airspace is not in effect, therefore requires NOTAM part-time status information. After publication, the FAA realized the proposal's legal description did not include the Notice to Airmen part-time status information.

Also, an editorial change is made to the Class D and Class E surface area legal descriptions replacing Airport/Facility Directory with the term Chart Supplement.

Class D and Class E airspace designations are published in paragraph 5000, 6002 and 6005, respectively, of FAA Order 7400.11A dated August 3, 2016, and effective September 15, 2016, which is incorporated by reference in 14 CFR 71.1. The Class D and E airspace designations listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

The FAA is amending Title 14 Code of Federal Regulations (14 CFR) Part 71 by modifying Class D airspace, Class E surface area airspace, and Class E airspace extending upward from 700 feet above the surface at Friedman Memorial Airport, Hailey, ID. The amendments are made to support implementation of new RNAV (GPS) standard instrument approach procedures at the airport. More specifically, the new RNAV (GPS) procedures require additional Class D airspace in the vicinity of the airport for circling maneuvers, but require less airspace upward from 700 feet above the surface to support arrival and departure of IFR aircraft. Class D airspace is expanded from the surface to and including 7,800 feet MSL to within a 4.9-mile radius (increased from a 4.1-mile radius) of the airport, with an extension from the 4.9-mile radius increased from 6 miles to 6.3 miles southeast.

Class E surface area airspace is reduced to within a 4.9-mile radius of the airport, with a segment increased from 6 miles to 6.3 miles southeast of the airport to provide controlled airspace when Class D airspace is not in effect. Also, the NOTAM part-time status information is added in the Class D airspace legal description.

Class E airspace extending upward from 700 feet above the surface is reduced to within a 4.9-mile radius of the airport (from the 5.5-mile radius), with the southeast segment reduced from 15.5 miles to 11.3 miles from the radius of the airport. Additionally, the geographic coordinates for the airport listed in the Class D description are updated to coincide with the FAA's aeronautical database.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 5000 Class D Airspace.

* * * * *

ANM ID D Hailey, ID [Modified]

Friedman Memorial Airport, ID

(Lat. 43°30′14″ N., long. 114°17′44″ W.)

That airspace extending upward from the surface to, and including, 7,800 feet MSL within a 4.9-mile radius of Friedman Memorial Airport, and that airspace within 2.1 miles west and 1.4 miles east of the 155° bearing from the airport extending from the airport 4.9-mile radius to 6.3 miles southeast of the airport. This Class D airspace area is effective during the specified dates and times established in advance by a Notice to Airmen. The effective date and time will thereafter be continuously published in the Chart Supplement.

Paragraph 6002 Class E Airspace Designated as Surface Areas.

* * * * *

ANM ID E2 Hailey, ID [Modified]

Friedman Memorial Airport, ID

(Lat. 43°30′14″ N., long. 114°17′44″ W.)

That airspace extending upward from the surface within a 4.9-mile radius of Friedman Memorial Airport, and within 2.1 miles west and 1.4 miles east of the 155° bearing from the airport, extending from the airport 4.9-mile radius to 6.3 miles southeast of the airport. This Class E airspace area is effective during the specified dates and times established in advance by a Notice to Airmen. The effective date and time will thereafter be continuously published in the Chart Supplement.

Paragraph 6005 Class E Airspace Areas Extending Upward From 700 Feet or More Above the Surface of the Earth.

* * * * *

ANM ID E5 Hailey, ID [Modified]

Friedman Memorial Airport, ID

(Lat. 43°30′14″ N., long. 114°17′44″ W.)

That airspace extending upward from 700 feet above the surface within a 4.9-mile radius of Friedman Memorial Airport, and within 2.5 miles each side of the 155° bearing from the airport extending from the airport 4.9-mile radius to 11.3 miles southeast of the airport; and that airspace extending upward from 1,200 feet above the surface bounded by a line beginning at lat. 44°00′00″ N., long. 114°55′00″ W., to lat. 44°00′00″ N., long. 113°53′00″ W., to lat. 43°00′00″ N., long. 113°49′00″ W., to lat. 43°00′00″ N., long. 114°55′00″ W., thence to point of beginning.

Issued in Seattle, Washington, on May 5, 2017.
Sam S.L. Shrimpton,
Acting Group Manager, Operations Support Group, Western Service Center.

[FR Doc. 2017-09659 Filed 5-11-17; 8:45 am]

BILLING CODE 4910-13-P